DEPARTMENT OF COMMERCE

National Oceanic and Atmospheric Administration

[I.D. 051801B]

Endangered Species; Permits

AGENCY: National Marine Fisheries Service (NMFS), National Oceanic and Atmospheric Administration (NOAA), Commerce.

ACTION: Issuance of permit 1276.

SUMMARY: Notice is hereby given of the following actions regarding permits for takes of endangered and threatened species for the purposes of scientific research and/or enhancement under the Endangered Species Act (ESA): NMFS has issued permit 1276 to Mr. Jay Holder, of Florida Fish and Wildlife Conservation Commission (1276).

ADDRESSES: The permit and related documents are available for review in the indicated office, by appointment:

For permits 1276: Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species is covered in this notice:

Fish

Endangered Shortnose Sturgeon (Acipenser brevirostrum)

Permits Issued

Permit #1276

Notice was published on January 25, 2001 (66 FR 7742) that Mr. Jay Holder, of Florida Fish and Wildlife Conservation Commission applied for a scientific research permit (1276). The applicant proposes to conduct an absence/presence study for shortnose sturgeon in the St. John River, Florida. Shortnose sturgeon were last reported in the system in the 1970s and 1980s. The primary objective of the study is to determine the existing population level of shortnose sturgeon within the river system. The applicant will use the NMFS approved sampling protocols for a presence/absence study. Obtaining an estimate of shortnose sturgeon numbers will allow resource partners to implement the secondary objective whereby other recovery plan strategies for the species can proceed. Permit 1276 was issued on May 10, 2001, authorizing take of listed species. Permit 1276 expires December 31, 2004.

Dated: May 18, 2001.
Phil Williams,
Acting Chief, Endangered Species Division, Office of Protected Resources, National Marine Fisheries Service.

[FR Doc. 01-13172 Filed 5-23-01; 8:45 am]

BILLING CODE 3510-22-S